DEPARTMENT OF JUSTICE

Antitrust Division

Notice Pursuant to the National Cooperative Research and Production Act of 1993—DVD Copy Control Association (“DVD CCA”)

Notice is hereby given that, on July 10, 2002, pursuant to Section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Amoisonic Electronics Co., Ltd., Xiamen, PEOPLE'S REPUBLIC OF CHINA; Anam Electronics Co., Ltd., Ansan-City, Kyungki-Do, REPUBLIC OF KOREA; Aralion Inc., Songpa-Gu, Seoul, REPUBLIC OF KOREA; Datapulse Technology Limited, Singapore, SINGAPORE; Digital & Digital, Inc., Gangnam-gu, Seoul, REPUBLIC OF KOREA; Hanbit System Co., Ltd., Kwangmyong-city, Kyonggi-Do, REPUBLIC OF KOREA; Jeil Records Company Limited, Hwangju-Si, Kyoungki-Do, REPUBLIC OF KOREA; JVC Lite-On IT Manufacture and Sales, Limited, Hong Kong, HONG KONG—CHINA; Kenlex Industrial Limited, Kowloon, HONG KONG—CHINA; Link Concept Technology Ltd., Kowloon, HONG KONG—CHINA; Lite-On IT Corp., Hsinchu, TAIWAN; Macro Image Technology, Inc., Songpa-gu, Seoul, REPUBLIC OF KOREA; Musion Co., Ltd., Gangnam-Gu, Seoul, REPUBLIC OF KOREA; National Semiconductor Corporation, Fremont, CA; Nova Electronic Co., Ltd., Dongjak-Gu, Seoul, REPUBLIC OF KOREA; Pozzoli Spa, Inzago, Milan, ITALY; Prochips Technology, Kuro-Gu, Seoul, REPUBLIC OF KOREA; Rohm Co., Ltd., Ukyo-ku, Kyoto, JAPAN; Sanshin Electronics Co., Ltd., Minato-ku, Tokyo, JAPAN; Shinwa Industries (China) Ltd., Huizhou City, Guang Dong, PEOPLE'S REPUBLIC OF CHINA; and Yuan High-Tech Development Co., Taipei, TAIWAN have been added as parties to this venture.

Also, A&R Cambridge Limited, Cambridge, Cambridgeshire, UNITED KINGDOM; AD Device Corporation, Minato-Ku, Tokyo, JAPAN; AniMeta Systems, Inc., Taipei, TAIWAN; Duplico 2000, S.L., Rubi, Barcelona, SPAIN; Eltech Electronics Technology (M) Sdn Bhd, Singapore, SINGAPORE; Iavix Technology Co., Ltd., Taipei, TAIWAN; Iomega Corporation, Roy, UT; Kanematsu Corporation, Tokyo, JAPAN; Linux Technology, Ltd., Taipei, TAIWAN; Lite-On Technology Corp., Taipei, TAIWAN; MRT Technology, City of Industry, CA; NewSoft Technology Corp., Taipei, TAIWAN; nReady Netware Limited, Quarry Bay, HONG KONG—CHINA; Princo Corporation, Hsin-Chu, TAIWAN; ShenZhen WED Development Co., Ltd., Shenzhen, Guangdong, PEOPLE'S REPUBLIC OF CHINA; SM Summit Holdings Limited, Singapore, SINGAPORE; Societe Nouvelle Areacem (S.N.A.), Tourouvre, FRANCE; Unidisc Technology Co., Ltd., HsinTien City, Taipei Hsien, TAIWAN; Videon Central, Inc., State College, PA; and Zenix Electronics Limited, Tsimshatsui, Kowloon, HONG KONG—CHINA have been dropped as parties to this venture.

No other changes have been made in either the membership or planned activity of the group research project. Membership in this group research project remains open, and DVD Copy Control Association (“DVD CCA”) intends to file additional written notification disclosing all changes in membership.

On April 11, 2001, DVD Copy Control Association (“DVD CCA”) filed its original notification pursuant to Section 6(a) of the Act. The Department of Justice published a notice in the Federal Register pursuant to Section 6(b) of the Act on August 3, 2001 (66 FR 40727).

The last notification was filed with the Department on April 12, 2002. A notice was published in the Federal Register pursuant to Section 6(b) of the Act on May 29, 2002 (67 FR 37440).

Constance K. Robinson,
Director of Operations, Antitrust Division.

[FR Doc. 02-22450 Filed 9-3-02; 8:45 am]

BILLING CODE 4410-11-M